NATIONAL TRANSPORTATION SAFETY BOARD

Sunshine Act Meetings; Agenda

Time and Date: 1 p.m., Tuesday, July 15, 2003.

Place: NTSB Conference Center, 429 L'Enfant Plaza SW., Washington, DC 20594.

Status: The one item is Open to the Public.

Matters to be Considered: 7567 Highway Accident Report—15 Passenger Van Single-Vehicle Rollover Accidents, Henrietta, Texas, May 8, 2001, and Randleman, North Carolina, July 1, 2001.

News Media Contact: Telephone: (202) 314-6100. Individuals requesting specific accommodations should contact Ms. Carolyn Dargan at (202) 314-6305 by Friday, July 11, 2003.

FOR FURTHER INFORMATION CONTACT: Vicky D'Onofrio, (202) 314-6410.

Dated: July 3, 2003.
Vicky D'Onofrio,
Federal Register Liaison Officer.

[FR Doc. 03-17352 Filed 7-3-03; 2:11 pm]

BILLING CODE 7533-01-M